RAILROAD RETIREMENT BOARD

Agency Forms Submitted for OMB Review, Request for Comments

SUMMARY: In accordance with the Paperwork Reduction Act of 1995 (44 U.S.C. Chapter 35), the Railroad Retirement Board (RRB) is forwarding three (3) Information Collection Requests (ICR) to the Office of Information and Regulatory Affairs (OIRA), Office of Management and Budget (OMB).

The RRB invites comments on the proposed ICR's to determine (1) the practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date

1. Employee Representative's Status and Compensation Reports; OMB 3220-0014

Under Section 1(b)(1) of the Railroad Retirement Act (RRA), the term “employee” includes an individual who is an employee representative. As defined in Section 1(c) of the RRA, an employee representative is an officer or official representative of a railway labor organization other than a labor organization included in the term “employer,” as defined in the RRA, who before or after August 29, 1935, was in the service of an employer under the RRA and who is duly authorized and designated to represent employees in accordance with the Railway Labor Act, or, any individual who is regularly assigned to or regularly employed by such officer or official representative in connection with the duties of his or her office. The requirements relating to the application for employee representative status and the periodic reporting of the compensation resulting from such status is contained in 20 CFR 209.10.

The RRB utilizes Forms DC-2a, Employee Representative's Status Report, and DC-2, Employee Representative's Report of Compensation, to obtain the information needed to determine employee representative status and to maintain a record of creditable service and compensation resulting from such status. Completion is required to obtain or retain a benefit. One response is requested of each respondent.

No changes are proposed to Form DC-2a and Form DC-2. The completion time for Form DC-2 is estimated at 30 minutes per response. The RRB estimates that approximately 65 Form DC-2's are completed annually. The RRB estimates that less than 10 Form DC-2a's are completed annually.

Previous Requests for Comments: The RRB has already published the initial 60-day notice (74 FR 17895 on April 17, 2009) required by 44 U.S.C. 3506(c)(2). That request elicited no comments.

Information Collection Request (ICR)

Title: Employee Representatives' Status and Compensation Reports.

OMB Control Number: OMB 3220-0014.

Form(s) submitted: DC-2a, DC-2.

Expiration date of current OMB clearance: 7/31/2009.

Type of request: Extension without change of a currently approved collection.

Affected public: Business or other-for-profit.

Abstract: Benefits are provided under the Railroad Retirement Act (RRA) for individuals who are employee representatives as defined in section 1 of the RRA. The collection obtains information regarding the status of such individuals and their compensation.

Changes Proposed: The RRB proposes no changes to the forms in the collection.

The total burden estimate for the ICR is as follows:

Estimated annual number of respondents: 65.

Total annual responses: 65.

Total annual reporting hours: 33.

2. Employer's Deemed Service Month Questionnaire; OMB 3220-0156

Section 3 (i) of the Railroad Retirement Act (RRA), as amended by Public Law 98-76, provides that the Railroad Retirement Board (RRB), under certain circumstances, may deem additional months of service in cases where an employee does not actually work in every month of the year, provided the employee satisfies certain eligibility requirements, including the existence of an employment relation between the employee and his or her employer. The procedures pertaining to the deeming of additional months of service are found in the RRB's regulations at 20 CFR 210, Creditable Railroad Service.

The RRB utilizes Form GL-99, Employer's Deemed Service Months Questionnaire, to obtain service and compensation information from railroad employers needed to determine if an employee can be credited with additional deemed months of railroad service.

The RRB proposes non-burden impacting, editorial and formatting changes to Form GL-99. Completion is mandatory. One response is required for each RRB inquiry. The completion time for Form GL-99 is estimated at 2 minutes per response. The RRB estimates that approximately 4,000 responses are received annually.

Previous Requests for Comments: The RRB has already published the initial 60-day notice (74 FR 18409 on April 22, 2009) required by 44 U.S.C. 3506(c)(2). That request elicited no comments.

Information Collection Request (ICR)

Title: Employer's Deemed Service Month Questionnaire.

OMB Control Number: OMB 3220-0156.

Form(s) submitted: GL-99.

Expiration date of current OMB clearance: 7/31/2009.

Type of request: Revision of a currently approved collection.

Affected public: Business or other-for-profit.

Abstract: Under Section 3(i) of the Railroad Retirement Act, the Railroad Retirement Board may deem months of service in cases where an employee does not actually work in every month of the year. The collection obtains service and compensation information from railroad employers needed to determine if an employee may be credited with additional months of railroad service.

Changes Proposed: The RRB proposes minor non-burden impacting editorial and formatting changes to Form GL-99.

The total burden estimate for the ICR is as follows:

Estimated annual number of respondents: 150.

Total annual responses: 4,000.

Total annual reporting hours: 133.

3. Statement of Claimant or Other Person; OMB 3220-0183

To support an application for an annuity under Section 2 of the Railroad Retirement Act (RRA) or for unemployment benefits under Section 2 of the Railroad Unemployment Insurance Act (RUIA), pertinent information and proofs must be furnished for the RRB to determine benefit entitlement. Circumstances may require an applicant or other person(s) having knowledge of facts relevant to the applicant's eligibility for an annuity or benefits to provide written statements supplementing or changing statements previously provided by the applicant. Under the railroad retirement program these statements may relate to changes in annuity beginning date(s), dates for marriage(s), birth(s), prior railroad or non-railroad employment, an applicant's request for reconsideration of an unfavorable RRB eligibility determination for an annuity or various other matters. The statements may also be used by the RRB to secure a variety of information needed to determine eligibility to unemployment and sickness benefits. Procedures related to providing information needed for RRA annuity or RUIA benefit eligibility determinations are prescribed in 20 CFR 217 and 320 respectively.

The RRB utilizes Form G-93, Statement of Claimant or Other Person, to obtain the supplemental or corrective information from applicants or other persons needed to determine applicant eligibility for an RRA annuity or RUIA benefits. The RRB proposes no changes to Form G-93. Completion is voluntary. One response is requested of each respondent. The completion time for Form G-93 is estimated at 15 minutes per response. The RRB estimates that approximately 900 responses are received annually.

Previous Requests for Comments: The RRB has already published the initial 60-day notice (74 FR 7274-7275 on February 13, 2009) required by 44 U.S.C. 3506(c)(2). That request solicited no comments.

Information Collection Request (ICR)

Title: Statement of Claimant or Other Person.

OMB Control Number: OMB 3220-0183.

Form(s) submitted: G-93.

Expiration date of current OMB clearance: 7/31/2009.

Type of request: Extension with change of a currently approved collection.

Affected public: Individuals or households, Business or other for-profit.

Abstract: Under Section 2 of the Railroad Retirement Act and the Railroad Unemployment Insurance Act, pertinent information and proofs must be submitted by an applicant so that the Railroad Retirement Board can determine his or her entitlement to benefits. The collection obtains information supplementing or changing information previously provided by an applicant.

Changes Proposed: The RRB proposes no changes to the forms in the collection.

The total burden estimate for the ICR is as follows:

Estimated annual number of respondents: 900.

Total annual responses: 900.

Total annual reporting hours: 225.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503.

Charles Mierzwa,
Clearance Officer.

[FR Doc. E9-16968 Filed 7-16-09; 8:45 am]

BILLING CODE 7905-01-P